DEPARTMENT OF LABOR

Employment and Training Administration

[TA-W-65,920]

Toyal America, Inc., Lockport, IL; Notice of Termination of Investigation

In accordance with Section 221 of the Trade Act of 1974, as amended, an investigation was initiated on May 15, 2009 in response to a petition filed by a company official on behalf of workers of Toyal America, Inc., Lockport, Illinois.

The petitioner has requested that the petition be withdrawn. Consequently, the investigation has been terminated.

Signed in Washington, DC, this 18th day of May 2009.
Richard Church,
Certifying Officer, Division of Trade Adjustment Assistance.

[FR Doc. E9-15219 Filed 6-26-09; 8:45 am]

BILLING CODE 4510-FN-P